DEPARTMENT OF EDUCATION

List of Correspondence From January 1, 2019, Through March 31, 2020

AGENCY: Office of Special Education and Rehabilitative Services, Department of Education.

ACTION: Notice.

SUMMARY: The Secretary is publishing the following list of correspondence from the U.S. Department of Education (Department) received by individuals during all four quarters of calendar year 2019 and the first quarter of calendar year 2020. The correspondence describes the Department's interpretations of the Individuals with Disabilities Education Act (IDEA) or the regulations that implement IDEA. This list and the letters or other documents described in this list, with personally identifiable information redacted, as appropriate, can be found at www2.ed.gov/policy/speced/guid/idea/index.html.

FOR FURTHER INFORMATION CONTACT: Jessica Spataro, U.S. Department of Education, 400 Maryland Avenue SW., Room 5112, Potomac Center Plaza, Washington, DC 20202-2500. Telephone: (202) 245-6493. Email: Jessica.Spataro@ed.gov.

If you use a telecommunications device for the deaf (TDD) or a text telephone (TTY), you can call the Federal Relay Service (FRS), toll free, at 1-800-877-8339.

Individuals with disabilities can obtain a copy of this list and the letters or other documents described in this list in an accessible format (e.g., Braille, large print, audiotape, or compact disc) by contacting Jessica Spataro at (202) 245-6493.

SUPPLEMENTARY INFORMATION: The following list identifies correspondence for five quarters, January 1, 2019, through March 31, 2020. Under section 607(f) of IDEA, the Secretary is required to publish this list quarterly in the Federal Register. The list includes those letters that contain interpretations of the requirements of IDEA and its implementing regulations, as well as letters and other documents that the Department believes will assist the public in understanding the requirements of the law. The list identifies the date and topic of each letter and provides summary information, as appropriate. To protect the privacy interests of the individual or individuals involved, personally identifiable information has been redacted, as appropriate.

2019—First Quarter Letters

PART B—ASSISTANCE FOR EDUCATION OF ALL CHILDREN WITH DISABILITIES

SECTION 612—STATE ELIGIBILITY

TOPIC ADDRESSED: CHILD FIND

○ Letter dated January 29, 2019, to District of Columbia Public Schools, Non-Public Unit Director, Joshua Wayne, regarding local educational agencies' (LEAs) obligation to provide a free appropriate public education (FAPE) to children with disabilities parentally placed in private school.

TOPIC ADDRESSED: FAPE

○ Letter dated January 29, 2019, to Legal Aid Society of Palm Beach County, Melissa Duncan, regarding whether a department of corrections fails to provide FAPE under IDEA when it only offers students the ability to graduate with a General Education Development credential.

SECTION 614—EVALUATIONS, ELIGIBILITY DETERMINATIONS, INDIVIDUALIZED EDUCATION PROGRAMS, AND EDUCATIONAL PLACEMENTS

TOPIC ADDRESSED: EVALUATION PROCEDURES

○ Letter dated January 29, 2019, to Pennsylvania attorney Perry A. Zirkel, answering a series of questions about response to intervention and multi-tiered systems of support.

TOPIC ADDRESSED: INDIVIDUALIZED EDUCATION PROGRAMS (IEPs)

○ Letter dated February 21, 2019, to California attorney Lawrence Siegel, addressing several questions about a child with a disability who transfers to a new LEA during the summer.

TOPIC ADDRESSED: EVALUATIONS, PARENTAL CONSENT, AND REEVALUATIONS

○ Letter dated February 22, 2019, to Oakland Schools, Executive Director for Special Populations, Karen J. Olex, regarding parental consent prior to conducting transition assessments.

SECTION 615—PROCEDURAL SAFEGUARDS

TOPIC ADDRESSED: PROTECTIONS FOR CHILDREN NOT YET ELIGIBLE FOR SPECIAL EDUCATION AND RELATED SERVICES

○ Letter dated January 29, 2019, to New York Office of Legal Services, Executive Deputy Counsel for Risk Management and Litigation, Judy Nathan, clarifying several questions on the protections of children not yet determined eligible for special education and related services under IDEA.

2019—Second Quarter Letters

PART B—ASSISTANCE FOR EDUCATION OF ALL CHILDREN WITH DISABILITIES

SECTION 614—EVALUATIONS, ELIGIBILITY DETERMINATIONS, INDIVIDUALIZED EDUCATION PROGRAMS, AND EDUCATIONAL PLACEMENTS

TOPIC ADDRESSED: IEPs

○ Letter dated May 2, 2019, to Massachusetts advocate Craig Haller, regarding IEP Team membership.

TOPIC ADDRESSED: EVALUATIONS AND REEVALUATIONS

○ Letter dated May 2, 2019, to California attorney Brittany N. Mills, addressing a series of questions about functional vision assessments.

SECTION 615—PROCEDURAL SAFEGUARDS

TOPIC ADDRESSED: INDEPENDENT EDUCATIONAL EVALUATIONS

○ Letter dated May 2, 2019, to Pennsylvania attorney Perry A. Zirkel, addressing a series of questions about independent educational evaluations.

TOPIC ADDRESSED: IMPARTIAL DUE PROCESS HEARINGS

○ Letter dated May 13, 2019, to Pennsylvania attorney Perry A. Zirkel, addressing a series of questions about State complaint and due process hearing procedures.

2019—Third Quarter Letters

PART B—ASSISTANCE FOR EDUCATION OF ALL CHILDREN WITH DISABILITIES

SECTION 612—STATE ELIGIBILITY

TOPIC ADDRESSED: STATE EDUCATIONAL AGENCY (SEA) GENERAL SUPERVISORY AUTHORITY

○ Letter dated July 3, 2019, to Pennsylvania attorney Perry A. Zirkel, addressing a series of questions regarding an SEA's complaint procedures process, in particular, about enforcement actions and resolution of State complaints.

TOPIC ADDRESSED: FAPE

○ Letter dated September 9, 2019, to California attorney Jill C. Rowland, addressing a series of questions about FAPE provided at a preschool day program.

SECTION 614—EVALUATIONS, ELIGIBILITY DETERMINATIONS, INDIVIDUALIZED EDUCATION PROGRAMS, AND EDUCATIONAL PLACEMENTS

TOPIC ADDRESSED: IEPs

○ Letter dated September 9, 2019, to individual (personally identifiable information redacted), regarding the attendance of a transition aged student with a disability at the student's IEP meeting where the results of assessments will be discussed.

2019—Fourth Quarter Letters

PART B—ASSISTANCE FOR EDUCATION OF ALL CHILDREN WITH DISABILITIES

SECTION 612—STATE ELIGIBILITY

TOPIC ADDRESSED: SEA GENERAL SUPERVISORY AUTHORITY

○ Letter dated October 23, 2019, to individual (personally identifiable information redacted), regarding compensatory education when a family relocates to a different State.

SECTION 614—EVALUATIONS, ELIGIBILITY DETERMINATIONS, INDIVIDUALIZED EDUCATION PROGRAMS, AND EDUCATIONAL PLACEMENTS

TOPIC ADDRESSED: IEPs

○ Letter dated November 22, 2019, to Colorado attorney Michael Breeskin, regarding parental involvement in the placement decisions for children with disabilities.

2020—First Quarter—No letters

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Mark Schultz,
Commissioner, Rehabilitation Services Administration. Delegated the authority to perform the functions and duties of the Assistant Secretary for the Office of Special Education and Rehabilitative Services.

[FR Doc. 2020-10542 Filed 5-15-20; 8:45 am]

BILLING CODE 4000-01-P